DEPARTMENT OF ENERGY

Energy Information Administration

Agency Information Collection Activities: Proposed Collection; Comment Request

AGENCY: U.S. Energy Information Administration (EIA), Department of Energy (DOE).

ACTION: Agency information collection activities: Proposed collection; comment request.

SUMMARY: The EIA is soliciting comments on a proposed three-year extension and revision to Form EIA-1605, “Voluntary Reporting of Greenhouse Gases.”.

DATES: Comments must be submitted by May 24, 2010, to the addresses listed below.

ADDRESSES: Send all comments to the attention of Paul F. McArdle. To ensure receipt of the comments by the due date, submission by e-mail (paul.mcardle@eia.doe.gov) or FAX (202-586-3045) is recommended. Comments submitted by mail should be sent to Paul F. McArdle, U.S. Department of Energy, Energy Information Administration, EI-81, 1000 Independence Avenue, SW., Washington, DC 20585. Questions on this action should be directed to Paul F. McArdle at 202-586-4445 or paul.mcardle@eia.doe.gov.

FOR FURTHER INFORMATION CONTACT: Requests for additional information or copies of the revised reporting form and instructions should be directed to Paul F. McArdle at 202-586-4445 or paul.mcardle@eia.doe.gov. The revised version of the Form EIA-1605, “Voluntary Reporting of Greenhouse Gases,” and instructions, can also be downloaded from the Program's website at http://www.eia.doe.gov/oiaf/1605/omb2010.html.

SUPPLEMENTARY INFORMATION:

I. Background

II. Current Actions

III. Request for Comments

I. Background

Voluntary Reporting of Greenhouse Gases Program collections are conducted pursuant to Section 1605(b) of the Energy Policy Act of 1992 (Pub. L. 102-486, 42 U.S.C. 13385) under revised General and Technical Guidelines issued by the DOE's Office of Policy and International Affairs in April 2006 and April 2007, respectively. The EIA-1605 form is designed to collect voluntarily reported data on greenhouse gas emissions, achieved reductions of these emissions, and increased carbon fixation. A summary of the initial results of the Voluntary Reporting of Greenhouse Gases Program under the revised program guidelines will appear in the Program's annual report titled Voluntary Reporting of Greenhouse Gases. Later this year, once it is available, EIA will post the annual report on the program's webpage at http://www.eia.doe.gov/oiaf/1605/index.html. For annual reports issued under the original program guidelines go to http://www.eia.doe.gov/oiaf/1605/1605b_old.html. Additionally, EIA produces and makes publicly available, a “public-use” database containing all the non-confidential information reported to EIA's Voluntary Reporting of Greenhouse Gases Program on the Forms EIA-1605. Once these data are finalized, EIA will make them available at the program's Web page (http://www.eia.doe.gov/oiaf/1605/index.html). Data submitted under the original program, meanwhile, is also available on the program's webpage (http://www.eia.doe.gov/oiaf/1605/OldDatabases.html).

The EIA, as part of its effort to comply with the Paperwork Reduction Act of 1995 (Pub. L. 104-13, 44 U.S.C. Chapter 35), provides the general public and other Federal agencies with opportunities to comment on collections of information conducted by or in conjunction with the EIA. Any comments received help the EIA to prepare data requests that maximize the utility of the information collected and to assess the impact of collection requirements on the public. Also, the EIA will later seek approval by the Office of Management and Budget (OMB) under Section 3507(a) of the Paperwork Reduction Act of 1995.

II. Current Actions

As a result of the experience gained in the implementation of the first reporting cycle under the revised guidelines launched on November 18, 2009, the EIA plans to slightly revise Form EIA-1605 and the accompanying instructions. These revisions fall into the following three categories: Caption/instruction changes, grid changes, and changes to the form designed to bring greater conformity between the paper form and the electronic form used by respondents via EIA's Internet Survey Management System (ISMS). Summaries of the three types of changes are provided below. Note, that in the proposed revised forms posted on EIA's webpage (http://www.eia.doe.gov/oiaf/1605/omb2010.html). EIA will highlight sections of the forms that have been revised.

Caption/Instruction Changes

EIA has made contextual changes to the captions and explanatory text in Schedule I, Schedule II, Schedule III and Schedule IV in order to provide respondents with effective guidance for properly completing both the paper and electronic versions of the form. These changes were made in response to usability testing as well as internal review. Changes have also been made to correct errors, including typos, in the previously approved forms.

Emissions Inventory Grid Changes

EIA has modified the emissions inventory grids in Schedule I, Section 2, Part B and Addendum A to include two additional columns with the captions “Fuel Type” and “Specific Facility/Source Name (optional)”. These columns are needed in order to disaggregate the estimation methods and associated ratings reported on the electronic form and, therefore, allow the system to calculate a weighted rating of the emission inventory methods used by respondents. EIA also revised some of the emission sources listed in the inventory grids to align them with the sources and methods identified in the Technical Guidelines.

Changes To Accommodate the Electronic Form

EIA has modified several existing questions and added a few additional questions to Schedule I and II to bring the paper form into conformity with the electronic version of Form EIA-1605. These changes reflect the fact that certain questions and question/sequences in the electronic version of the form are necessary in order to activate only those sections of the electronic form that the respondent needs to fill out. The changes are also intended to reduce the burden of reporting using the electronic software and improve usability. The affected questions can be found in: Schedule I, Section 1, Questions 3b, 3d, 3e, Question 4, and Question 7; Schedule I, Section 4, Questions 1, 2, 3, 4; Schedule II, Section 3, Questions 1, 2; and in Addendum B2, Part A, Questions 3 and 4 will be deleted.

Please refer to the revised version of the form and instructions for more information about the purpose, who may report, when to report, where to submit, the elements to be reported, instructions for reporting, provisions for confidentiality, and uses (including possible nonstatistical uses) of the information (http://www.eia.doe.gov/oiaf/1605/omb2010.html). For instructions on obtaining materials, see the FOR FURTHER INFORMATION CONTACT: section.

III. Request for Comments

Prospective respondents and other interested parties should comment on the actions discussed in item II. The following issues are provided to assist in the preparation of comments.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average 60 hours per response. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 13(b) of the Federal Energy Administration Act of 1974, Pub. L. 93-275, codified at 15 U.S.C. 772(b).

Issued in Washington, DC, March 17, 2010.
Stephanie Brown,
Director, Statistics and Methods Group, Energy Information Administration.

[FR Doc. 2010-6464 Filed 3-23-10; 8:45 am]

BILLING CODE 6450-01-P